DEPARTMENT OF LABOR

Employment and Training Administration

[TA-W-59,771]

Fred Meyer/Kroger, Inc.; Portland, OR; Notice of Termination of Investigation

Pursuant to section 221 of the Trade Act of 1974, as amended, an investigation was initiated on July 25, 2006 in response to a worker petition filed by a One-Stop Operator on behalf of workers supporting retail operations at Fred Meyer/Kroger, Inc., Portland, Oregon.

The petitioner has requested that the petition be withdrawn. Consequently, the investigation has been terminated.

Signed at Washington, DC, this 9th day of August, 2006.
Richard Church,
Certifying Officer, Division of Trade Adjustment Assistance.

[FR Doc. E6-14160 Filed 8-24-06; 8:45 am]

BILLING CODE 4510-30-P